DEPARTMENT OF HOUSING AND URBAN DEVELOPMENT

24 CFR Part 903

[Docket No. FR-4420-F-09]

RIN 2577-AB89

Public Housing Agency (PHA) Plan: Streamlined Plans

AGENCY: Office of the Assistant Secretary for Public and Indian Housing, HUD.

ACTION: Final rule.

SUMMARY: This final rule adopts the amendment concerning streamlined PHA Plans that was published for public comment in an April 17, 2000 HUD proposed rule. The April 17, 2000 rule also proposed amendments to the deconcentration of poverty component of the PHA's admission policy, which is part of the PHA Plan submission. The proposed amendments concerning a PHA's policy on deconcentration of poverty, and the public comments received on these amendments, are still under consideration, and will be addressed in a separate rulemaking. No public comments were received on the proposed amendment concerning submission of streamlined PHA Plans, and therefore, this rule makes final that amendment.

DATES: Effective Date: September 13, 2000.

FOR FURTHER INFORMATION CONTACT: Rod Solomon, Deputy Assistant Secretary, Office of Policy, Program and Legislative Initiatives, Office of Public and Indian Housing, Department of Housing and Urban Development, 451 Seventh Street, SW., Room 4116, Washington, DC 20410; telephone (202) 708-0713 (this is not a toll-free number). Persons with hearing or speech impairments may access that number via TTY by calling the Federal Information Relay Service at (800) 877-8339.

SUPPLEMENTARY INFORMATION:

I. Background

On April 17, 2000 (65 FR 2086), HUD published a proposed rule that would revise HUD's regulations in 24 CFR part 903 that implement the Public Housing Agency Plan to fully reflect the importance of deconcentration by income and affirmatively furthering fair housing in a PHA's admission policy, consistent with the Administration's directive to achieve “One America.” The April 17, 2000 rule also proposed to provide further direction to PHAs on the implementation of deconcentration and affirmatively further fair housing. In addition to these amendments, HUD proposed a change to § 903.11(c) that would permit the Secretary of HUD to further simplify the PHA Plan submission for PHAs permitted to submit a streamlined plan.

While HUD received many comments on the proposed amendments concerning deconcentration of poverty, no public comments were received on the proposed amendment to § 903.11(c). HUD is still considering public comments on the proposed amendments concerning deconcentration of poverty and a final rule addressing these amendments will be issued separately. This rule proceeds to codify the amendment to § 903.11(c).

II. Findings and Certifications

Regulatory Flexibility Act

The Secretary, in accordance with the Regulatory Flexibility Act (5 U.S.C. 605(b)), has reviewed and approved this final rule, and in so doing certifies that this rule does not have a significant economic impact on a substantial number of small entities. This rule is limited to making a technical, simplification change to HUD's regulations in 24 CFR 903.11, as described in this preamble.

Executive Order 13132, Federalism

This final rule does not have federalism implications and does not impose substantial direct compliance costs on State and local governments or preempt State law within the meaning of Executive Order 13132 (entitled “Federalism”).

Environmental Impact

The Finding of No Significant Impact with respect to the environment was prepared during the interim rulemaking stage of the PHA Plan rule (Docket No. FR-4420), in accordance with HUD regulations in 24 CFR part 50 that implement section 102(2)(C) of the National Environmental Policy Act of 1969 (42 U.S.C. 4223). That Finding remains applicable to this rule, and is available for public inspection between 7:30 a.m. and 5:30 p.m. weekdays in the Office of the Rules Docket Clerk, Office of General Counsel, Room 10276, Department of Housing and Urban Development, 451 7th Street, SW, Washington, DC 20410.

Unfunded Mandates Reform Act

Title II of the Unfunded Mandates Reform Act of 1995 (Pub. L. 104-4; approved March 22, 1995) (UMRA) establishes requirements for Federal agencies to assess the effects of their regulatory actions on State, local, and tribal governments, and on the private sector. This rule does not impose any Federal mandates on any State, local, or tribal governments, or on the private sector, within the meaning of the UMRA.

Catalog of Federal Domestic Assistance

The Catalog of Federal Domestic Assistance numbers applicable to the programs affected by this rule are 14.850 and 14.855.

List of Subjects in 24 CFR Part 903

Administrative practice and procedure, Public housing, Reporting and recordkeeping requirements.

For the reasons stated in the preamble, HUD amends part 903 of title 24 of the Code of Federal Regulations to read as follows:

PART 903—PUBLIC HOUSING AGENCY PLANS

1. The authority citation for 24 CFR part 903 continues to read as follows:

Authority. 42 U.S.C. 1437c; 42 U.S.C. 3535(d).

2. Section 903.11 is revised to read as follow:

§ 903.11 Are certain PHAs eligible to submit a streamlined Annual Plan?

(a) Yes, the following PHAs may submit a streamlined Annual Plan, as described in paragraph (b) of this section:

(1) PHAs that are determined to be high performing PHAs as of the last annual or interim assessment of the PHA before the submission of the 5-Year or Annual Plan;

(2) PHAs with less than 250 public housing units (small PHAs) and that have not been designated as troubled in accordance with section 6(j)(2) of the 1937 Act; and

(3) PHAs that only administer tenant-based assistance and do not own or operate public housing.

(b) All streamlined plans must provide information on how the public may reasonably obtain additional information on the PHA policies contained in the standard Annual Plan, but excluded from their streamlined submissions.

(c) A streamlined plan must include the information provided in this paragraph (c) of this section. The Secretary may reduce the information requirements of streamlined Plans further, with adequate notice.

(1) For high performing PHAs, the streamlined Annual Plan must include the information required by § 903.7(a), (b), (c), (d), (g), (h), (m), (n), (o), (p) and (r). The information required by § 903.7(m) must be included only to the extent this information is required for PHA's participation in the public housing drug elimination program and the PHA anticipates participating in this program in the upcoming year.

(2) For small PHAs that are not designated as troubled or that are not at risk of being designated as troubled under section 6(j)(2) of the 1937 Act the streamlined Annual Plan must include the information required by § 903.7(a), (b), (c), (d), (g), (h), (k), (m), (n), (o), (p) and (r). The information required by § 903.7(k) must be included only to the extent that the PHA participates in homeownership programs under section 8(y). The information required by § 903.7(m) must be included only to the extent this information is required for the PHA's participation in the public housing drug elimination program and the PHA anticipates participating in this program in the upcoming year.

(3) For PHAs that administer only tenant-based assistance, the streamlined Annual Plan must include the information required by § 903.7(a), (b), (c), (d), (e), (f), (k), (l), (o), (p) and (r).

Dated: August 7, 2000.
Harold Lucas,
Assistant Secretary for Public and Indian Housing.

[FR Doc. 00-20550 Filed 8-11-00; 8:45 am]

BILLING CODE 4210-33-P